DEPARTMENT OF ENERGY

Federal Energy Regulatory Commission

Notice of Effectiveness of Exempt Wholesale Generator Status

Buffalo Dunes Wind Project, LLC | EG13-49-000
Whitetail Wind Energy, LLC | EG13-50-000
Merlin One, LLC | EG13-51-000
Goal Line L.P. | EG13-52-000
RE Columbia 3 LLC | EG13-53-000
RE Columbia, LLC | EG13-54-000
RE Yakima LLC | EG13-55-000
Allegany Generating Station LLC | EG13-56-000

Take notice that during the month of October 2013, the status of the above-captioned entities as Exempt Wholesale Generators became effective by operation of the Commission's regulations. 18 CFR 366.7(a).

Dated: November 15, 2013.
Kimberly D. Bose,
Secretary.

[FR Doc. 2013-27955 Filed 11-20-13; 8:45 am]

BILLING CODE 6717-01-P